ENVIRONMENTAL PROTECTION AGENCY

40 CFR Parts 52 and 81

[EPA-R05-OAR-2019-0590; FRL-10011-76-Region 5]

Designation of Areas for Air Quality Planning Purposes; Indiana; Redesignation of the Morgan County Sulfur Dioxide Nonattainment Area

AGENCY: Environmental Protection Agency (EPA).

ACTION: Proposed rule.

SUMMARY: In accordance with the Clean Air Act (CAA), the Environmental Protection Agency (EPA) is proposing to redesignate the Morgan County nonattainment area, which consists of Clay and Washington Townships in Morgan County, IN, to attainment for the 2010 sulfur dioxide (SO2) National Ambient Air Quality Standards (NAAQS). EPA is also proposing to approve Indiana's maintenance plan for the Morgan County SO2 nonattainment area. Indiana submitted the request for approval of the Morgan County area's redesignation and maintenance plan on October 10, 2019, and a clarification letter on May 5, 2020. EPA has previously approved Indiana's attainment plan for Morgan County.

DATES: Comments must be received on or before August 13, 2020.

ADDRESSES: Submit your comments, identified by Docket ID No. EPA-R05-OAR-2019-0590 at http://www.regulations.gov or via email to compher.michael@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Anthony Maietta, Environmental Protection Specialist, Control Strategies Section, Air Programs Branch (AR-18J), U.S. Environmental Protection Agency, Region 5, 77 West Jackson Boulevard, Chicago, Illinois 60604, (312) 353-8777, maietta.anthony@epa.gov. The EPA Region 5 office is open from 8:30 a.m. to 4:30 p.m., Monday through Friday, excluding Federal holidays and facility closures due to COVID 19.

SUPPLEMENTARY INFORMATION: Throughout this document whenever “we,” “us,” or “our” is used, we mean EPA. This supplementary information section is arranged as follows:

I. Background and Redesignation Requirements

II. Determination of Attainment

III. Indiana's State Implementation Plan (SIP)

IV. Permanent and Enforceable Emission Reductions

V. Requirements for the Area Under Section 110 and Part D

VI. Maintenance Plan

VII. What action is EPA taking?

VIII. Statutory and Executive Order Reviews

I. Background and Redesignation Requirements

In 2010, EPA established a revised primary SO2 NAAQS of 75 parts per billion (ppb) (75 FR 35520, June 22, 2010). EPA designated portions of the Morgan County area as nonattainment for the 2010 SO2 NAAQS on August 5, 2013 (78 FR 47191) based upon air quality monitoring data for calendar years 2009-2011. The Morgan County nonattainment area is comprised of Clay and Washington Townships. Indiana submitted a plan to provide for attainment of the 2010 SO2 NAAQS on October 2, 2015, and supplemented it on June 7, 2017, November 5, 2017, February 8, 2019, and February 12, 2019. EPA approved the Morgan County attainment plan on September 23, 2019 (84 FR 49659). Indiana submitted its request to redesignate Morgan County on October 10, 2019. On May 5, 2020, the Indiana Department of Environmental Management (IDEM) sent a letter to EPA with clarifying information about the previously submitted monitoring data. More specifically, IDEM stated that the Eagle Valley—High Street monitor was no longer in operation as of June 12, 2019. IDEM noted that the monitor had been operated for the purposes of determining the impacts of the largest sources of SO2 emissions and subsequent attainment of the SO2 standard, and in assisting with the determination of the background concentration for purposes of modeled SO2 impacts in attainment and maintenance areas. IDEM provided further details about the hybrid monitoring and modeling approach it used, as permitted by EPA's April 23, 2014 guidance titled “Guidance for 1-Hour SO2 Nonattainment Area SIP Submissions”. The May 5, 2020 letter is included in the docket for this action.

Under CAA section 107(d)(3)(E), there are five criteria which must be met before a nonattainment area may be redesignated to attainment.

1. EPA has determined that the relevant NAAQS has been attained in the area.

2. The applicable implementation plan has been fully approved by EPA under section 110(k).

3. EPA has determined that improvement in air quality is due to permanent and enforceable reductions in emissions resulting from the SIP, Federal regulations, and other permanent and enforceable reductions.

4. The State has met all applicable requirements for the area under section 110 and part D.

5. EPA has fully approved a maintenance plan, including a contingency plan, for the area under section 175A of the CAA.

II. Determination of Attainment

The first requirement for redesignation is to demonstrate that the NAAQS has been attained in the area. As stated in EPA's April 2014 “Guidance for 1-Hour SO2 Nonattainment Area SIP Submissions,” for SO2, there are two components needed to support an attainment determination: A review of representative air quality monitoring data, and a further analysis, generally requiring air quality modeling, to demonstrate that the entire area is attaining the applicable NAAQS, based on current actual emissions or the fully implemented control strategy. Indiana has addressed both components.

Under EPA regulations at 40 CFR 50.17, the SO2 NAAQS is met at an ambient air quality monitoring site when the three-year average of the annual 99th percentile of one-hour daily maximum concentrations is less than or equal to 75 ppb, as determined in accordance with appendix T of 40 CFR part 50 at all relevant monitoring sites in the subject area. The Morgan County nonattainment area had a single SO2 monitoring site (Eagle Valley—High Street; Site ID# 18-109-1001), located in Centerton (unincorporated) in southern Clay Township, Morgan County. EPA has reviewed the ambient air monitoring data for this site focusing on air quality data collected from 2012 through June 12, 2019. These data considered are complete, quality-assured, certified and recorded in EPA's Air Quality System database.

Table 1 shows the 99th percentile results and three-year average design value for the Morgan County nonattainment area monitor for 2012-2018. The 2016-2018 design value for Morgan County is 42 ppb, which is below the SO2 NAAQS. Therefore, Indiana has demonstrated that Morgan County's SO2 monitor shows attainment. As discussed above, the Eagle Valley—High Street monitor was shut down on June 12, 2019. However, using the partial year data from the Eagle Valley—High Street monitor for 2019, partial 2019 data from the monitor indicates that the area continues to attain the SO2 NAAQS. As discussed further below, Indiana utilized an approach based on computer modeling which relied on allowable emissions to additionally characterize the attainment status of the SO2 NAAQS and to provide for maintaining SO2 emissions in Morgan County below the SO2 NAAQS through 2030.

Table 1—Monitoring Data for the Morgan County Nonattainment Area for 2012-2018
Site ID | Location | Year and 99th percentile value (ppb): 2012 | Year and 99th percentile value (ppb): 2013 | Year and 99th percentile value (ppb): 2014 | Year and 99th percentile value (ppb): 2015 | Year and 99th percentile value (ppb): 2016 | Year and 99th percentile value (ppb): 2017 | Year and 99th percentile value (ppb): 2018
18-109-1001 | AES/IPL-Eagle Valley/CENT | 82 | 64 | 90 | 56 | 23 | 47 | 55
Three-year design value and 2019 partial-year monitor data (ppb)
2009-2011 | 2010-2012 | 2011-2013 | 2012-2014 | 2013-2015 | 2014-2016 | 2015-2017 | 2016-2018 | 2019 *
100 | 94 | 81 | 79 | 70 | 56 | 42 | 42 | 48
* 99th percentile value from data recorded by the monitor through June 12, 2019.

Regarding the requirement for Indiana to demonstrate that the entire area is attaining the SO2 NAAQS, Indiana also referred to the dispersion modeling analysis which was submitted as part of its attainment plan for Morgan County. This analysis demonstrated that revised SO2 emission limits for the Hydraulic Press Brick facility located in Bethany (Clay Township) and concurrent permanent SO2 emission reductions resulting from permanent retirement of coal-fired units and replacement to natural gas-fired units at the Indianapolis Power and Light (IPL)—Eagle Valley Generating Station in Martinsville (Washington Township) would provide for attainment. Indiana has confirmed that the modeled facilities are currently in full compliance with their emission limits, so that current actual emissions are at or below the levels Indiana used in its modeling analysis. The modeling analysis was discussed in detail in the July 8, 2019 (84 FR 32672) notice of proposed rulemaking for the Morgan County SO2 attainment SIP. As previously noted, EPA approved the Morgan County attainment plan on September 23, 2019 (84 FR 49659). EPA proposes to find that this modeling analysis and the monitored air quality data demonstrate that the Morgan County area has attained the 2010 SO2 NAAQS.

III. Indiana's State Implemenation Plan (SIP)

EPA's approval of Indiana's attainment SIP for Morgan County included revised emission limits for two emission sources in Morgan County. In that action, EPA found that Indiana had satisfied requirements for providing for attainment of the SO2 NAAQS in Morgan County. Indiana has adopted its SO2 SIP regulations, including those which cover Morgan County, at Indiana Administrative Code Title 326, Rule 7-4-11.1 (326 IAC 7-4-11.1, entitled “Morgan County sulfur dioxide emission limitations), 326 IAC 7-1.1-3 (“Compliance date”), and 326 IAC 7-2-1 (“Reporting requirements; methods to determine compliance”). Indiana has shown that it maintains an active enforcement program to ensure ongoing compliance. Indiana's new source review/prevention of significant deterioration program will address emissions from new sources.

IV. Permanent and Enforceable Emission Reductions

For an area to be redesignated, the State must be able to reasonably attribute the improvement in air quality to emission reductions which are permanent and enforceable. The IPL—Eagle Valley Generating Station in Morgan County permanently shut down its coal-fired boilers in 2016 and has switched its boiler operations to natural gas. The coal-fired boiler retirement provided a decrease of 10,875 tons per year (tpy) of SO2 from 2011 actual emissions. The Indiana SIP requirement for IPL—Eagle Valley Generating Station to solely burn natural gas is located at 326 IAC 7-4-11.1 “Morgan County sulfur dioxide emission limitations” and was approved by EPA on September 23, 2019 (84 FR 49659).

Indiana has also established operational limits for the Hydraulic Press Brick facility to reduce the amount of SO2 emitted. The operational limits include a “do not operate condition” for Kiln 3. In addition, Hydraulic Press Brick is required to operate a sorbent injection system to achieve a 50 percent control or 2.5 pounds of SO2 per million British Thermal Units in Kilns 4 and 5. In 2018, these measures resulted in a 343 tpy decrease of SO2 from 2011 actual emissions. EPA approved these new limits into Indiana's SIP on September 23, 2019 (84 FR 49659), which renders the limits federally enforceable. Indiana has confirmed that Hydraulic Press Brick is currently complying with the limits.

As shown in Table 1, the monitored design value in Morgan County at the time of its nonattainment designation was 100 ppb. Subsequent monitoring data in Morgan County indicate that ambient SO2 levels improved after the IPL—Eagle Valley Generating Station's fuel switch from coal to natural gas and the imposition of enforceable limits at Hydraulic Press Brick. The most current valid design value for Morgan County at the time of Indiana's submittal (2016-2018) is 42 ppb. Reviewing the partial year data collected in 2019 before the High Street—Eagle Valley monitor was shut down on June 12, 2019, the 99th percentile value of 48 ppb recorded by the monitor remained below the NAAQS. EPA proposes to find that the improvement in air quality in Morgan County can be attributed to permanent and enforceable emission reductions at the IPL—Eagle Valley Generating Station and Hydraulic Press Brick facilities.

V. Requirements for the Area Under Section 110 and Part D

Indiana has submitted information demonstrating that it meets the requirements of the CAA for the Morgan County nonattainment area. EPA approved Indiana's infrastructure SIP for SO2 on August 14, 2015 (80 FR 48733). This infrastructure SIP approval confirms that Indiana's SIP meets the requirements of CAA section 110(a)(1) and 110(a)(2) to contain the basic program elements, such as an active enforcement program and permitting program.

Section 191 of the CAA requires Indiana to submit a part D SIP for the Morgan County nonattainment area by April 4, 2015. Indiana submitted its part D SIP on October 2, 2015 and supplemented it on June 7, 2017, November 15, 2017, February 8, 2019, and on February 12, 2019. The SIP included a demonstration of attainment and the emissions limits for IPL—Eagle Valley Generating Station and operational controls and limits for Hydraulic Press Brick. EPA approved the Morgan County attainment plan on September 23, 2019 (84 FR 49659). In that rulemaking, EPA concluded that Indiana had satisfied the various requirements under CAA section 110 and part D for the Morgan County SO2 nonattainment area. For example, EPA concluded that Indiana satisfied requirements for an attainment inventory of the SO2 emissions from sources in the nonattainment area (required under section 173(c)(3)), reasonably available control measures (required under section 173(c)(1)), and reasonable further progress (required under section 173(c)(2)).

Indiana chose 2011 for its base year emissions inventory, as comprehensive emissions data was available and updated that year, which satisfies the 172(c)(3) requirements. Two facilities (IPL—Eagle Valley Generating Station and Hydraulic Press Brick) were the main sources, Electrical Generating Unit (EGU) and contributing non-EGU, in the nonattainment area.

Table 2 compares SO2 emissions for EGU and contributing non-EGU sources for 2015 (the attainment year identified by Indiana), 2016 (an attainment year as well as the year that all coal-fired operations ceased at IPL—Eagle Valley Generating Station and is therefore representative of the allowable emissions-based attainment inventory supplied by Indiana), 2018 (the most recent certified attainment year), and the maintenance year of 2030. It should be noted that for the 2015 attainment year inventory of EGU and contributing non-EGU sources, Hydraulic Press Brick reports to Indiana on a three-year cycle. As a result, its actual emissions from 2010 are listed in the 2011 base year inventory, and its 2016 actual emissions are listed in the 2015 attainment year inventory. By providing actual emissions from the two main SO2 sources from a time period when the area was not meeting the SO2 NAAQS, and for times when the area was attaining the NAAQS (both before and after the complete cessation of all coal-fired units at IPL—Eagle Valley Generating Station and the use of a sorbent injection system to achieve a 50% SO2 emission reduction at Hydraulic Press Brick to comply with the permanent and enforceable limits on these facilities), Indiana demonstrates a 99.94% reduction in actual SO2 emissions. Indiana's submittal shows that actual 2018 EGU and contributing non-EGU SO2 emissions in Morgan County were 0.06% of the actual emissions in 2011. With the addition of allowable emissions-based attainment and maintenance inventories provided, Indiana shows that attainment of the SO2 NAAQS was achieved through permanent and enforceable actions on EGU and contributing non-EGU sources. Indiana also shows that modeled allowable operational-based limits on the remaining contributing SO2 source mean that the area is expected to maintain attainment of the SO2 NAAQS.

Table 2—Actual and Allowable EGU and Contributing Non-EGU Point Sources in Morgan County, IN
[Tons per year]
Affected source | Type of reduction | 2011 nonattainment year (actual) | 2015 attainment year (actual) | 2011-2015 change (actual) | 2016 attainment (allowable) | 2018 (actual) | 2011-2018 change (actual) | 2030 maintenance (allowable)
IPL—Eagle Valley | Emission Limit/Unit Retirement and Fuel Switch | 10,875 | 2,756 | −8119 | 0 | 0 | −10,875 | 0
Hydraulic Press Brick | Sorbent Injection (50% SO2 Reduction) | 350 | 15 | −335 | 2,628 | 7 | −343 | 2,628
Total |  | 11,225 | 2,771 | −8,454 | 2,628 | 7 | −11,218 | 2,628

Section 176(c) of the CAA requires states to establish criteria and procedures to ensure that federally supported or funded projects conform to the air quality planning goals in the applicable SIP. The requirement to determine conformity applies to transportation plans, programs, and projects that are developed, funded, or approved under title 23 of the United States Code (U.S.C.) and the Federal Transit Act (transportation conformity) as well as to all other federally supported or funded projects (general conformity). State transportation conformity SIP revisions must be consistent with Federal conformity regulations relating to consultation, enforcement, and enforceability that EPA promulgated pursuant to its authority under the CAA. On June 4, 2010, Indiana submitted documentation establishing transportation conformity procedures in its SIP. EPA approved these procedures on August 17, 2010 (75 FR 50708). EPA is proposing to find that Indiana has satisfied the applicable requirements for the redesignation of the Morgan County nonattainment area under section 110 and part D of title I of the CAA.

VI. Maintenance Plan

CAA section 175A sets forth the elements of a maintenance plan for areas seeking redesignation from nonattainment to attainment. Under section 175A, the plan must demonstrate continued attainment of the applicable NAAQS for at least ten years after the nonattainment area is redesignated to attainment. Eight years after the redesignation, the State must submit a revised maintenance plan demonstrating that attainment will continue to be maintained for the ten years following the initial ten-year period. To address the possibility of future NAAQS violations, the maintenance plan must contain contingency measures as EPA deems necessary to assure prompt correction of any future one-hour violations. Specifically, the maintenance plan should address five requirements: The attainment emissions inventory, maintenance demonstration, monitoring, verification of continued attainment, and a contingency plan. Indiana's October 10, 2019 redesignation request and May 5, 2020 clarification letter contains its maintenance plan, which Indiana has committed to review eight years after redesignation.

In its October 2, 2015 and November 15, 2017 submittals, Indiana provided an attainment emission inventory which addresses the 2011 base year emissions of 11,225 tpy for EGU and non-EGU contributing sources. In their October 10, 2019 redesignation request, Indiana chose 2015 as an attainment year in order to demonstrate actual emissions reductions that have occurred in an attaining year and because 2015 was one of the years contributing to the 2013-2015, 2014-2016, and 2015-2017 design values which demonstrate attainment of the SO2 NAAQS. In the same request Indiana chose 2016 as a year to demonstrate an allowable emissions-based inventory for EGU and non-EGU contributing sources, because in 2016 all coal-fired units ceased operation at IPL—Eagle Valley Generating Station, and 2016 was one of the years contributing to the 2014-2016, 2015-2017, and 2016-2018 design values which demonstrate Morgan County's attainment of the SO2 NAAQS. The 2015 attainment year inventory included actual reductions due to the (at the time, ongoing) retirement of coal-fired units at IPL—Eagle Valley Generating Station. Total SO2 emissions in Morgan County for the attainment year were 2,771 tpy. Indiana's 2016 allowable emissions-based attainment inventory includes the complete retirement of all coal-fired units at IPL—Eagle Valley Generating Station, as well as the modeled allowable SO2 emissions from Hydraulic Press Brick that would result in attainment of the SO2 NAAQS. Total allowable SO2 emissions in Indiana's 2016 attainment inventory are 2,628 tpy, all allowable from Hydraulic Press Brick. Indiana provided the same allowable emissions-based emissions for the maintenance year, 2030.

Indiana projected that total allowable SO2 emissions in Morgan County in the applicable years could be up to 2,628 tpy from Hydraulic Press Brick. Indiana also demonstrated a 75.3% reduction in actual emissions between 2011 and 2015 (the year before the complete cessation of coal-fired activity at IPL—Eagle Valley Generating Station), and a 99.94% reduction in actual emissions between 2011 and 2018. This large reduction in actual emissions since the 2011 base year is expected to be sufficient to maintain the SO2 NAAQS in Morgan County.

Indiana's maintenance demonstration consists of the nonattainment SIP air quality analysis showing that the emission reductions now in effect in Morgan County will provide for attainment of the SO2 NAAQS. The permanent and enforceable SO2 emission reductions described above ensure that Morgan County emissions will be equal to or less than the emission levels which were evaluated in the air quality analysis, and Indiana's enforceable emission requirements will ensure that the Morgan County SO2 emission limits are met continuously.

For continuing verification, Indiana has committed to track the emissions and compliance status of the major facilities in Morgan County so that future emissions will not exceed the allowable emissions-based 2016 attainment inventory. All major sources in Indiana are required to submit annual emissions data, which the State uses to update its emission inventories as required by the CAA.

The requirement to submit contingency measures in accordance with section 172(c)(9) can be adequately addressed for SO2 by the operation of a comprehensive enforcement program which can quickly identify and address sources that might be causing exceedances of the NAAQS level. Indiana's enforcement program is active and capable of prompt action to remedy compliance issues. In particular, Indiana's October 10, 2019 redesignation request and May 5, 2020 clarification letter discusses its two-tiered plan to respond to reported emissions that would cause modeled exceedances of the SO2 NAAQS in the maintenance area. Indiana commits to study SO2 emission trends and identify areas of concern and potential additional measures and if necessary, Indiana will consider additional control measures which can be implemented quickly. Indiana has the authority to expeditiously adopt, implement and enforce any subsequent emissions control measures deemed necessary to correct any future SO2 violations. Indiana commits to adopt and implement such corrective actions as necessary to address trends of increasing emissions or modeled ambient impacts. The public will have the opportunity to participate in the contingency measure implementation process. EPA proposes to find that Indiana has addressed the contingency measure requirement. Further, EPA proposes to find that Indiana's maintenance plan adequately addresses the five basic components necessary to maintain the SO2 NAAQS in the Morgan County nonattainment area.

VII. What action is EPA taking?

In accordance with Indiana's October 10, 2019 request and May 5, 2020 clarification letter, EPA is proposing to redesignate the Morgan County nonattainment area from nonattainment to attainment of the 2010 SO2 NAAQS. Indiana has demonstrated that the area is attaining the 2010 SO2 NAAQS and that the improvement in air quality is due to permanent and enforceable SO2 emission reductions in the nonattainment area. EPA is also proposing to approve Indiana's maintenance plan, which is designed to ensure that the area will continue to maintain the SO2 NAAQS.

VIII. Statutory and Executive Order Reviews

Under the CAA, redesignation of an area to attainment and the accompanying approval of a maintenance plan under section 107(d)(3)(E) are actions that affect the status of a geographical area and do not impose any additional regulatory requirements on sources beyond those imposed by state law. A redesignation to attainment does not in and of itself create any new requirements, but rather results in the applicability of requirements contained in the CAA for areas that have been redesignated to attainment. Moreover, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications as specified by Executive Order 13175 (65 FR 67249, November 9, 2000), because redesignation is an action that affects the status of a geographical area and does not impose any new regulatory requirements on tribes, impact any existing sources of air pollution on tribal lands, nor impair the maintenance of ozone national ambient air quality standards in tribal lands.

List of Subjects

40 CFR Part 52

Environmental protection, Air pollution control, Incorporation by reference, Intergovernmental relations, Reporting and recordkeeping requirements, Sulfur oxides.

40 CFR Part 81

Environmental protection, Environmental protection, Air pollution control, National parks, Wilderness areas.

Dated: July 1, 2020.
Kurt Thiede,
Regional Administrator, Region 5.

[FR Doc. 2020-14689 Filed 7-13-20; 8:45 am]

BILLING CODE 6560-50-P